MORRIS K. UDALL AND STEWART L. UDALL FOUNDATION

Sunshine Act Meetings

TIME AND DATE: 9 a.m. to 3:25 p.m., Tuesday, December 11, 2018.

PLACE: The offices of the Morris K. Udall and Stewart L. Udall Foundation, 130 South Scott Avenue, Tucson, AZ 85701.

STATUS: This meeting of the Board of Trustees will be open to the public.

MATTERS TO BE CONSIDERED: (1) Call to Order & Chair's Remarks; (2) Executive Director's Remarks; (3) Consent Agenda Approval (Minutes of the April 11, 2018, Board of Trustees Meeting; Board Reports submitted for Education Programs, Finance and Management, Udall Center for Studies in Public Policy-Native Nations Institute-Udall Archives and their Workplan, and U.S. Institute for Environmental Conflict Resolution; resolutions regarding Allocation of Funds to the Udall Center for Studies in Public Policy and Transfer of Funds to the Native Nations Institute for Leadership, Management, and Policy; and Board takes notice of any new and updated personnel policies and internal control methodologies); (4) U.S. Institute for Environmental Conflict Resolution Project Highlight; (5) Native American Congressional Internship Program and Funding Updates; (6) Trustee Ethics Training; (7) Stephanie Zimmt-Mack Tribute; (8) Udall Center for Studies in Public Policy data science and environmental policy research project; (9) Udall Scholarship Selection Process; and (10) Finance and Internal Controls.

CONTACT PERSON FOR MORE INFORMATION: Philip J. Lemanski, Executive Director, 130 South Scott Avenue, Tucson, AZ 85701, (520) 901-8500.

Dated: November 21, 2018.
Elizabeth E. Monroe,
Executive Assistant, Morris K. Udall and Stewart L. Udall Foundation, and Federal Register Liaison Officer.

[FR Doc. 2018-25897 Filed 11-21-18; 4:15 pm]

BILLING CODE 6820-FN-P